DEPARTMENT OF ENERGY

Federal Energy Regulatory Commission

[Project No. 2417-067]

Northern States Power Company; Notice of Application Tendered for Filing With the Commission and Soliciting Additional Study Requests and Establishing Procedural Schedule for Relicensing and Deadline for Submission of Final Amendments

Take notice that the following hydroelectric application has been filed with the Commission and is available for public inspection.

a. Type of Application: Subsequent Minor License.

b. Project No.: 2417-067.

c. Date Filed: November 30, 2023.

d. Applicant: Northern States Power Company (Northern States Power).

e. Name of Project: Hayward Hydroelectric Project (Hayward Project).

f. Location: The Hayward Project is located on the Namekagon River in the City of Hayward in Sawyer County, Wisconsin.

g. Filed Pursuant to: Federal Power Act 16 U.S.C. 791(a)-825(r).

h. Applicant Contact: Donald Hartinger, Director of Renewable Operation-Hydro, Xcel Energy, 414 Nicollet Mall, 2, Minneapolis, MN 55401; phone (651) 261-7668; or Matthew Miller, Environmental Analyst, Xcel Energy, 1414 W Hamilton Ave., P.O. Box 8, Eau Claire, WI 54702-0008; phone 715-737-1353.

i. FERC Contact: Laura Washington (202) 502-6072, Laura.Washington@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2023).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 29, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2417-067.

m. This application is not ready for environmental analysis at this time.

n. The existing Hayward Project consists of the following existing facilities: (1) a 246.9-acre reservoir; (2) a 442-foot-long the concrete overflow dam; (3) a 18-foot-wide, 24-foot long powerhouse with intake channel containing one S. Morgan Smith vertical Francis-Type turbine with a total installed capacity of 0.168 megawatts; (4) a tailrace; (5) a 150-foot-long underground transmission line. Northern States Power is not proposing any changes to project facilities or operation.

o. A copy of the application can be viewed on the Commission's website at http://www.ferc.gov using the “eLibrary” link. Enter the docket number excluding the last three digits in the docket number field to access the document. For assistance, contact FERC at FERCOnlineSupport@ferc.gov or call toll-free, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural Schedule: The application will be processed according to the following preliminary schedule. Revisions to the schedule will be made as appropriate.

Milestone | Target date
Issue Deficiency Letter (if necessary) | February 2024.
Request Additional Information (if necessary) | February 2024.
Issue Scoping Document 1 for comments | May 2024.
Issue Acceptance Letter | June 2024.
Request Additional Information (if necessary) | July 2024.
Issue Scoping Document 2 (if necessary) | August 2024.

Final amendments to the application must be filed with the Commission no later than 30 days from the issuance date of the notice of ready for environmental analysis.

Dated: December 14, 2023.
Debbie-Anne A. Reese,
Deputy Secretary.

[FR Doc. 2023-27986 Filed 12-19-23; 8:45 am]

BILLING CODE 6717-01-P